DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: Opioid Treatment Data Systems for Disaster Planning Project (Pilot)—NEW

The Substance Abuse and Mental Health Services Administration (SAMHSA), Center for Substance Abuse Treatment (CSAT), has identified a critical need for Opioid Treatment Programs (OTPs, also commonly known as Methadone Clinics) to be able to access limited but specific patient dosage data for patients displaced due to service disruptions affecting the OTP from which they regularly receive treatment (the patient's ‘Home OTP’). Service disruptions in home OTPs have ranged in cause from events such as the September 11th terrorist attacks or more recently, Hurricanes Katrina and Rita, to more common events such as snow storms or electrical black-outs.

The proposed system will ensure that, in such circumstances, patients displaced from their home OTPs will still be able to obtain safe and effective treatment at an alternative OTP (referred to in this project as a ‘Guest OTP’). In reviewing past events involving OTP service disruptions and their impact on patients, SAMHSA, in tandem with numerous stakeholders, established four basic principles that would guide creation of a deliberately simple, centralized Web-based system to house patient data. Such a system would facilitate Guest OTPs in providing safe and effective continuity of treatment for patients temporarily unable to obtain treatment from their Home OTPs due to any form of service disruption. The proposed centralized data system is known as the Opioid Treatment Data Systems for Disaster. Subsequently, in a small sample study of five (5) OTPs, SAMHSA tested a protocol and data collection instrument for use in determining functional requirements for the proposed system. In the fall 2005, SAMHSA provided funding for the current project, to support creation of the necessary infrastructure for a pilot system, to be followed by testing on a regional basis. This pilot project will focus on creating the means by which vital dosage data for OTP patients can be made accessible to Guest OTPs called upon to treat patients of other programs in the event of service disruptions, most specifically, in disaster scenarios, so that patients are not forced during such circumstances to forgo or discontinue treatment. Ultimately, the pilot system will be reviewed to determine its effectiveness and ability to support a national implementation, should funding for such a system become available.

This notice is being provided for a survey to be distributed to OTPs in the region(s) selected by SAMHSA to gather information regarding their present data collection and reporting capabilities and practices. Technical information from the surveys will be used exclusively for development of the overall system and to help inform selection of sites best suited for participation as pilot sites for testing of the Opioid Treatment Data Systems for Disaster Planning. OTP respondents will have the option of completing an on-line or paper version of the survey. The survey consists of approximately 25 questions predominantly formatted as yes/no responses with one to two words fill in the blank responses. The estimated maximum annual response burden to collect this information is as follows:

Number of facilities (OTPs) | Responses per facility | Burden/response (hours) | Annual burden (hours)
200 | 1 | 1.0 | 200

Written comments and recommendations concerning the proposed information collection should be sent by September 4, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: July 30, 2007.
Elaine Parry,
Acting Director, Office of Program Services.

[FR Doc. E7-14985 Filed 8-1-07; 8:45 am]

BILLING CODE 4162-20-P